DEPARTMENT OF ENERGY

Federal Energy Regulatory Commission

[Project No. 14680-002]

Water Street Land, LLC; Notice of Application Tendered for Filing With the Commission and Soliciting Additional Study Requests

Take notice that the following hydroelectric application has been filed with the Commission and is available for public inspection.

a. Type of Application: Exemption from Licensing.

b. Project No.: 14680-002.

c. Date filed: July 13, 2016.

d. Applicant: Water Street Land, LLC.

e. Name of Project: Natick Pond Dam Hydroelectric Project.

f. Location: On the Pawtuxet River, in the Towns of Warwick and West Warwick, in Kent County, Rhode Island. No federal lands would be occupied by project works or located within the project boundary.

g. Filed Pursuant to: Public Utility Regulatory Policies Act of 1978, 16 U.S.C. 2705, 2708 (2012), amended by the Hydropower Regulatory Efficiency Act of 2013, Pub. L. 113-23, 127 Stat. 493 (2013).

h. Applicant Contact: Mr. Rob Cioe, Water Street Land, LLC, P.O. Box 358, North Kingstown, Rhode Island 02852; (480) 797-3077.

i. FERC Contact: John Ramer, (202) 502-8969, john.ramer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 12, 2016.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14680-002.

m. The application is not ready for environmental analysis at this time.

n. The proposed Natick Pond Dam Project would consist of: (1) An existing 265-foot-long granite block dam with a 166-foot-long spillway; (2) an existing 58-foot to 125.3-foot-wide, 1-foot to 28-foot-deep earth embankment; (3) an existing 44-foot-long, 4-foot to 20-foot-high south granite block training wall; (4) an existing 1,244-foot-long, 18-foot to 41.25-foot-high granite block and cobble stone north training wall; (5) an existing 4-foot-wide, 6-foot-high granite block low level outlet; (6) an existing 46.0-acre impoundment (Natick Pond) with a normal surface elevation of about 48.5 feet North American Vertical Datum of 1988; (7) a new 97-foot-long, 32.2-foot-wide, 6.6-foot-deep concrete intake channel; (8) a new 7.6-foot-high, 11.1-foot-wide steel sluice gate with a new 8.3-foot-high, 32.2-foot-wide steel trashrack with 6-inch clear bar spacing; (9) two new 113-foot-long, 28-foot-wide concrete turbine bays containing two 42.7-foot-long, 9.2-foot-diameter Archimedes screw turbine-generator units each rated at 180 kilowatts (kW) for a total installed capacity of 360 kW; (10) a new 20.8-foot-high, 23.8-foot-long, 27.8-foot-wide concrete powerhouse containing a new gearbox and electrical controls; (11) a new 43-foot long, 29-foot-wide, 5-foot-deep tailrace; (12) a new 220-foot-long, 12.47-kilovolt above-ground transmission line connecting the powerhouse to National Grid's distribution system; and (13) appurtenant facilities. The estimated annual generation of the proposed Natick Pond Dam Project would be about 1,800 megawatt-hours. The applicant proposes to operate the project in a run-of-river mode. There are no federal or state lands associated with the project.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Rhode Island State Historic Preservation Officer (SHPO), as required by section 106 of the National Historic Preservation Act and the regulations of the Advisory Council on Historic Preservation, 36 CFR 800.4.

q. Procedural schedule: The application will be processed according to the following preliminary schedule. Revisions to the schedule will be made as appropriate (e.g., study requests and/or application deficiencies may lengthen the schedule).

Issue Deficiency Letter August 2016

Issue Notice of Acceptance/

Ready for Environmental Analysis October 2016

Issue EA/Order January 2017

Dated: July 20, 2016.
Kimberly D. Bose,
Secretary.

[FR Doc. 2016-17849 Filed 7-27-16; 8:45 am]

BILLING CODE 6717-01-P